ENVIRONMENTAL PROTECTION AGENCY

[EPA-HQ-OPP-2021-0749; FRL-10539-01-OMS]

Information Collection Request Submitted to OMB for Review and Approval; Comment Request; Foreign Purchaser Acknowledgement Statement of Unregistered Pesticides (Renewal)

AGENCY: Environmental Protection Agency (EPA).

ACTION: Notice.

SUMMARY: The Environmental Protection Agency (EPA) has submitted an information collection request (ICR), Foreign Purchaser Acknowledgement Statement of Unregistered Pesticides (EPA ICR Number 0161.16, OMB Control Number 2070-0027) to the Office of Management and Budget (OMB) for review and approval in accordance with the Paperwork Reduction Act. This is a proposed extension of the ICR, which is currently approved through December 31, 2022. Public comments were previously requested via the Federal Register on March 1, 2022, during a 60-day comment period. This notice allows for an additional 30 days for public comments. The ICR, which is summarized in this notice, provides the Agency's estimated burden and cost to the public. An agency may not conduct or sponsor and a person is not required to respond to a collection of information unless it displays a currently valid OMB control number.

DATES: Additional comments may be submitted on or before January 26, 2023.

ADDRESSES: For submissions to EPA: Submit your comments, referencing Docket identification (ID) No. EPA-HQ-OPPT-2021-0728, using https://www.regulations.gov. For additional delivery options and information about EPA's dockets, visit https://www.epa.gov/dockets. EPA's policy is that all comments received will be included in the public docket without change including any personal information provided, unless the comment includes profanity, threats, information claimed to be Confidential Business Information (CBI), or other information whose disclosure is restricted by statute.

For submissions to OMB: Submit comments within 30 days of publication of this notice using https://www.reginfo.gov/public/do/PRAMain. Find this particular ICR by selecting “Currently under 30-day Review—Open for Public Comments” or by using the search function.

FOR FURTHER INFORMATION CONTACT: Carolyn Siu, Regulatory Support Branch (7602M), Office of Chemical Safety and Pollution Prevention, Environmental Protection Agency, 1200 Pennsylvania Ave. NW, Washington, DC 20460; telephone number: (202) 566-1205; email address: siu.carolyn@epa.gov.

SUPPLEMENTARY INFORMATION: Supporting documents which explain in detail the information that the EPA will be collecting are available in the docket for this ICR. The docket can be viewed online at https://www.regulations.gov or in person at the EPA Docket Center, WJC West, Room 3334, 1301 Constitution Ave. NW, Washington, DC. The telephone number for the Docket Center is 202-566-1744. For additional information about EPA's dockets, visit https://www.epa.gov/dockets.

Abstract: This ICR addresses the information collection activities associated with the mandate in section 17(a)(2) of the Federal Insecticide, Fungicide, and Rodenticide Act (FIFRA), which requires an exporter of any pesticide not registered under FIFRA section 3 or sold under FIFRA section 6(a)(1) to obtain a signed statement from the foreign purchaser acknowledging that the purchaser is aware that the pesticide is not registered for use in, and cannot be sold in, the United States. A copy of this statement, which is known as the Foreign Purchaser Acknowledgement Statement, or FPAS, must be transmitted by EPA to the Designated National Authority or appropriate official of the government in the importing country. This information is submitted to EPA via mail or electronically through the Central Data Exchange (CDX) in the form of annual or per-shipment statements. EPA maintains original records and transmits copies, along with an explanatory letter, via email to appropriate government officials of the countries that are importing the pesticide.

In addition to the export notification for unregistered pesticides, FIFRA requires that all exported pesticides include appropriate labeling. There are different requirements for registered and unregistered products. The export labeling requirements meet the definition of third-party notification. This ICR includes burden estimates for the FPAS requirement for unregistered pesticides, as well as the labeling requirement for all exported pesticides, both registered and unregistered. The burden estimates for export labeling requirements have been consolidated in this ICR since the implementation of the 1993 pesticide export policy governing the export of pesticides, devices, and active ingredients used in producing pesticides, codified in 40 CFR part 168, subpart D.

Form Numbers: EPA Form 9600-026.

Respondents/affected entities: Entities potentially affected by this ICR are individuals or entities that either manufacture and export pesticides or that reformulate or repackage and export pesticides. The North American Industrial Classification System (NAICS) code assigned to the parties responding to this information is 3250A1.

Respondent's obligation to respond: Mandatory under FIFRA section 17(a)(2) and 40 CFR part 168, subpart D.

Estimated number of respondents: 2,240 (total).

Frequency of response: On occasion.

Total estimated burden: 16,660 hours (per year). Burden is defined at 5 CFR 1320.3(b).

Total estimated cost: $1,265,501 (per year), includes $0 annualized capital or operation and maintenance costs.

Changes in the estimates: There is no change in burden from that currently approved by OMB. There were adjustments to the Agency burden estimate related to the ongoing COVID-19 public health emergency, during which time EPA had limited access to mail delivered by the postal service since March 2020. This scenario prompted EPA to announce a temporary COVID-19 flexibility to allow for secure electronic submissions (86 FR 46246, August 18, 2021) (FRL-8721-01-OCSPP). Given this circumstance, EPA cannot yet estimate the annual changes in the number of submissions over the last 3 years. Instead, this ICR relies on previous estimates and assumes the numbers have largely remained the same over the past 3 years.

Courtney Kerwin,
Director, Regulatory Support Division.

[FR Doc. 2022-28051 Filed 12-23-22; 8:45 am]

BILLING CODE 6560-50-P